DEPARTMENT OF ENERGY

Federal Energy Regulatory Commission

Combined Notice of Filings

Take notice that the Commission has received the following Natural Gas & Oil Pipeline Rate and Refund Report filings:

Filings Instituting Proceedings

Docket Numbers: PR23-33-000.

Applicants: Bay Gas Storage Company, LLC.

Description: Report Filing: Bay Gas Storage Supplemental LAUF Filing to be effective N/A.

Filed Date: 3/31/23.

Accession Number: 20230331-5446.

Comment Date: 5 p.m. ET 4/21/23.

Docket Numbers: RP23-657-000.

Applicants: Hardy Storage Company, LLC.

Description: § 4(d) Rate Filing: RAM 2023 to be effective 5/1/2023.

Filed Date: 3/31/23.

Accession Number: 20230331-5273.

Comment Date: 5 p.m. ET 4/12/23.

Docket Numbers: RP23-658-000.

Applicants: Northern Natural Gas Company.

Description: § 4(d) Rate Filing: 20230331 Negotiated Rate to be effective 4/1/2023.

Filed Date: 3/31/23.

Accession Number: 20230331-5276.

Comment Date: 5 p.m. ET 4/12/23.

Docket Numbers: RP23-659-000.

Applicants: Cheyenne Connector, LLC.

Description: Compliance filing: CC 2023-03-31 Annual L&U Report to be effective N/A.

Filed Date: 3/31/23.

Accession Number: 20230331-5289.

Comment Date: 5 p.m. ET 4/12/23.

Docket Numbers: RP23-660-000.

Applicants: Dauphin Island Gathering Partners.

Description: § 4(d) Rate Filing: Negotiated Rate Filing 3-31-2023 to be effective 4/1/2023.

Filed Date: 3/31/23.

Accession Number: 20230331-5293.

Comment Date: 5 p.m. ET 4/12/23.

Docket Numbers: RP23-661-000.

Applicants: Northern Border Pipeline Company.

Description: § 4(d) Rate Filing: Fuel Mechanism Implementation to be effective 5/1/2023.

Filed Date: 3/31/23.

Accession Number: 20230331-5297.

Comment Date: 5 p.m. ET 4/12/23.

Docket Numbers: RP23-662-000.

Applicants: Columbia Gas Transmission, LLC.

Description: § 4(d) Rate Filing: OTRA Summer 2023 to be effective 5/1/2023.

Filed Date: 3/31/23.

Accession Number: 20230331-5302.

Comment Date: 5 p.m. ET 4/12/23.

Docket Numbers: RP23-663-000.

Applicants: NEXUS Gas Transmission, LLC.

Description: § 4(d) Rate Filing: Negotiated Rates—Various Releases eff 4-1-23 to be effective 4/1/2023.

Filed Date: 3/31/23.

Accession Number: 20230331-5308.

Comment Date: 5 p.m. ET 4/12/23.

Docket Numbers: RP23-664-000.

Applicants: Texas Eastern Transmission, LP.

Description: Compliance filing: TETLP March 2023 Penalty Disbursement Report to be effective N/A.

Filed Date: 3/31/23.

Accession Number: 20230331-5309.

Comment Date: 5 p.m. ET 4/12/23.

Docket Numbers: RP23-665-000.

Applicants: Algonquin Gas Transmission, LLC.

Description: Compliance filing: AGT March 2023 OFO Penalty Disbursement Report to be effective N/A.

Filed Date: 3/31/23.

Accession Number: 20230331-5331.

Comment Date: 5 p.m. ET 4/12/23.

Docket Numbers: RP23-666-000.

Applicants: Tennessee Gas Pipeline Company, L.L.C.

Description: § 4(d) Rate Filing: Volume No. 2—Koch Energy Services, LLC SP385736 to be effective 4/1/2023.

Filed Date: 3/31/23.

Accession Number: 20230331-5438.

Comment Date: 5 p.m. ET 4/12/23.

Docket Numbers: RP23-667-000.

Applicants: Algonquin Gas Transmission, LLC.

Description: § 4(d) Rate Filing: Negotiated Rates—Various Releases eff 4-1-23 to be effective 4/1/2023.

Filed Date: 4/3/23.

Accession Number: 20230403-5002.

Comment Date: 5 p.m. ET 4/17/23.

Docket Numbers: RP23-668-000.

Applicants: NEXUS Gas Transmission, LLC.

Description: § 4(d) Rate Filing: Negotiated Rates—Enbridge Gas to DTE 963130 eff 4-2-23 to be effective 4/2/2023.

Filed Date: 4/3/23.

Accession Number: 20230403-5009.

Comment Date: 5 p.m. ET 4/17/23.

Docket Numbers: RP23-669-000.

Applicants: Equitrans, L.P.

Description: § 4(d) Rate Filing: Negotiated Rate Capacity Release Agreements—4/1/2023 to be effective 4/1/2023.

Filed Date: 4/3/23.

Accession Number: 20230403-5027.

Comment Date: 5 p.m. ET 4/17/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2023.
Debbie-Anne A. Reese,
Deputy Secretary.

[FR Doc. 2023-07338 Filed 4-6-23; 8:45 am]

BILLING CODE 6717-01-P